DEPARTMENT OF HOMELAND SECURITY

Coast Guard

33 CFR Part 117

[Docket No. USCG-2017-0573]

Drawbridge Operation Regulation; Southern Branch of the Elizabeth River, Chesapeake, VA

AGENCY: Coast Guard, DHS.

ACTION: Notice of deviation from drawbridge regulation.

SUMMARY: The Coast Guard has issued a temporary deviation from the operating schedule that governs the I-64 (High Rise) Bridge across the Atlantic Intracoastal Waterway, Southern Branch of the Elizabeth River, mile 7.1, at Chesapeake, VA. The deviation is necessary to facilitate routine maintenance. This deviation allows the bridge to remain in the closed-to-navigation position.

DATES: This deviation is effective from 7 a.m. on October 2, 2017 through 11 p.m. on November 22, 2017.

ADDRESSES: The docket for this deviation, [USCG-2017-0573] is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone (757) 398-6587, email Mickey.D.Sanders2@uscg.mil.

SUPPLEMENTARY INFORMATION: The Virginia Department of Transportation, owner and operator of the I-64 (High Rise) Bridge across the Atlantic Intracoastal Waterway, Southern Branch of the Elizabeth River, mile 7.1, at Chesapeake, VA, has requested a temporary deviation from the current operating schedule to accommodate annual maintenance to remove and replace the center locks and install new electrical wiring and lubrication piping. The bridge has a vertical clearance of 65 feet above mean high water (MHW) in the closed position.

The current operating schedule is set out in 33 CFR 117.997(e). Under this temporary deviation, the bridge will be maintained in the closed-to-navigation position for four (4) separate five (5) day periods from 7 a.m., October 2, 2017, through 11 p.m., October 6, 2017; from 7 a.m., October 16, 2017, through 11 p.m., October 20, 2017; from 7 a.m., October 30, 2017, through 11 p.m., November 3, 2017; from 7 a.m., November 13, 2017, through 11.p.m., November 17, 2017. The alternate dates for inclement weather are from 7 a.m., October 9, 2017, through 11 p.m., October 13, 2017; from 7 a.m., October 23, 2017, through 11 p.m., October 27, 2017; from 7 a.m., November 6, 2017, through 11 p.m., November 10, 2017; from 7 a.m., November 18, 2017, through 11 p.m., November 22, 2017. The bridge will open on signal if at least 24 hours notice is given at all other times.

The Atlantic Intracoastal Waterway, Southern Branch of the Elizabeth River is used by a variety of vessels including small commercial vessels, recreational vessels and tug and barge traffic. The Coast Guard has carefully coordinated the restrictions with waterway users in publishing this temporary deviation.

Vessels able to pass through the bridge in the closed position may do so if at least 15 minutes notice is given. The bridge will not be able to open for emergencies and there is no immediate alternate route for vessels unable to pass through the bridge in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: September 21, 2017.
Hal R. Pitts,
Bridge Program Manager, Fifth Coast Guard District.

[FR Doc. 2017-20564 Filed 9-25-17; 8:45 am]

BILLING CODE 9110-04-P